FEDERAL COMMUNICATIONS COMMISSION

Federal Advisory Committee Act; Downloadable Security Technology Advisory Committee

AGENCY: Federal Communications Commission.

ACTION: Notice.

SUMMARY: In accordance with the Federal Advisory Committee Act, this notice advises interested persons that the Federal Communications Commission's (“FCC” or “Commission”) Downloadable Security Technology Advisory Committee (“DSTAC”) will hold a meeting on August 28, 2015. At the meeting, the committee will consider and debate a final DSTAC report and discuss any other DSTAC issues that may arise.

DATES: August 28, 2015.

ADDRESSES: Federal Communications Commission, Room TW-C305 (Commission Meeting Room), 445 12th Street SW., Washington, DC 20554.

FOR FURTHER INFORMATION CONTACT: For additional information on this proceeding, contact Brendan Murray, Brendan.Murry@fcc.gov, of the Media Bureau, Policy Division, (202) 418-1573 or Nancy Murphy, Nancy.Murphy@fcc.gov, of the Media Bureau, (202) 418-1043.

SUPPLEMENTARY INFORMATION: This meeting will be held on August 28, 2015, from 9:30 a.m. to 4:00 p.m. in the Commission Meeting Room of the Federal Communications Commission, Room TW-C305, 445 12th Street SW., Washington, DC 20554.

The DSTAC is a Federal Advisory Committee that will “identify, report, and recommend performance objectives, technical capabilities, and technical standards of a not unduly burdensome, uniform, and technology- and platform-neutral software-based downloadable security system.”

The meeting on August 28, 2015, will be the seventh meeting of the DSTAC. The FCC will attempt to accommodate as many attendees as possible; however, admittance will be limited to seating availability. The Commission will provide audio and/or video coverage of the meeting over the Internet from the FCC's Web page at http://fcc.gov/live. The public may submit written comments before the meeting to Brendan Murray, DSTAC Designated Federal Officer, by email to DSTAC@fcc.gov or by U.S. Postal Service Mail to 445 12th Street SW., Room 4-A726, Washington, DC 20554.

Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute request will be accepted, but may be impossible to fill.

Federal Communications Commission.
Gloria J. Miles,
Federal Register Liaison Officer.

[FR Doc. 2015-19437 Filed 8-6-15; 8:45 am]

BILLING CODE 6712-01-P